DEPARTMENT OF HEALTH AND HUMAN SERVICES

Centers for Medicare & Medicaid Services

[Document Identifier: CMS-10197]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Evaluation of the Medicare National Competitive Bidding Program for DME; Use: Data collection materials consisting of beneficiary surveys and interview/discussion group guides are necessary to conduct the congressionally mandated evaluation of the Medicare National Competitive Bidding Program. Section 303(d) of the Medicare Prescription Drug, Improvement, and Modernization Act of 2003 (MMA) requires a Report to Congress on the program, covering program savings, reductions in cost sharing, impacts on access to and quality of affected goods and services, and beneficiary satisfaction. This project's purpose is to provide information for this Report to Congress. Due to substantial legislative and regulatory delays in program implementation, the Report to Congress in 2011 will be released just as the program is being implemented, and before the evaluation is complete. This project will continue after the Report to Congress, to evaluate the impact of the program on beneficiaries, on Medicare costs, and on changes in the Medicare Durable Medical Equipment, Prosthetics, Orthotics and Supplies (DMEPOS) market.

In response to public comments received on the 60-day notice that published on December 18, 2009 (74 FR 67227), we have made several revisions to this information collection request. Most notably, the revisions include but are not limited to revised burden calculations due to an increase in the number of respondents and the addition of another data collection wave. Form Number: CMS-10197 (OMB#: 0938-1015); Frequency: Occasionally; Affected Public: Individuals or households, Private Sector, Business or other for-profits, not-for-profit institutions, and Federal Government; Number of Respondents: 8,470; Total Annual Responses: 8,470; Total Annual Hours: 4,342. (For policy questions regarding this collection contact Ann Meadow at 410-786-6602. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on May 3, 2010.

OMB, Office of Information and Regulatory Affairs, Attention: CMS Desk Officer, Fax Number: (202) 395-6974, E-mail: OIRA_submission@omb.eop.gov.

Dated: March 26, 2010.
Michelle Shortt,
Director, Regulations Development Group, Office of Strategic Operations and Regulatory Affairs.

[FR Doc. 2010-7469 Filed 4-1-10; 8:45 am]

BILLING CODE 4120-01-P